DENALI COMMISSION

Fiscal Year 2011 Draft Work Plan

AGENCY: Denali Commission.

ACTION: Notice.

SUMMARY: The Denali Commission (Commission) is an independent federal agency based on an innovative federal-state partnership designed to provide critical utilities, infrastructure and support for economic development and training in Alaska by delivering federal services in the most cost-effective manner possible. The Commission was created in 1998 with passage of the October 21, 1998 Denali Commission Act (Act) (Title III of Pub. L. 105-277, 42 U.S.C. 3121). The Denali Commission Act requires that the Commission develop proposed work plans for future spending and that the annual Work Plan be published in the Federal Register, providing an opportunity for a 30-day period of public review and written comment.

This Federal Register notice serves to announce the 30-day opportunity for public comment on the Denali Commission Draft Work Plan for Federal Fiscal Year 2011.

DATES: Comments and related material to be received by June 10, 2012.

ADDRESSES: Submit comments to the Denali Commission, Attention: Sabrina Hoppas, 510 L Street, Suite 410, Anchorage, AK 99501.

FOR FURTHER INFORMATION CONTACT: Ms. Sabrina Hoppas, Denali Commission, 510 L Street, Suite 410, Anchorage, AK 99501. Telephone: (907) 271-1414. Email: shoppas@denali.gov.

On June 17, 2011, the Commission published in the Federal Register a proposed FY 2011 Work Plan. The Commission met subsequently and recommended an amended FY 2011 Work Plan, as presented in this document.

Several factors contributed to this amended FY 2011 Work Plan including continuing resolutions (CRs) passed by Congress late in the fiscal year resulting in latent consideration of the FY 2011 annual Work Plan by the Commissioners (Commissioners met on June 2, 2011 to consider the FY 2011 annual Work Plan). In addition, the final FY 2011 budget included a rescission of $15,000,000 in prior year unobligated funds and uncertainty on how the rescission may impact the FY2011 Work Plan was not resolved until September 2011.

With concurrence from the Office of Management and Budget and the Secretary of Commerce, the amended FY 2011 annual Work Plan will be processed concurrently with the FY 2012 Work Plan. The FY 2012 annual Work Plan is not included as part of this amended FY 2011 annual Work Plan document.

Changes are as follows.

Final FY 2011 funding received is provided in the table below.

Denali Commission FY 2011 funding table | Totals
FY 2011 Energy & Water Appropriation | $10,678,600
FY 2011 USDA, Rural Utilities Service (RUS) | 5,775,000
FY 2011 Trans Alaska Pipeline Liability (TAPL) Trust | 7,010,000
FY 2011 Federal Transit Administration (FTA) | 5,000,000
Total FY 2011 Federal Program Available | 28,463,600

Final FY 2011 obligations and expenditures are discussed below.

Administrative Funds: Reduced from $2,558,250 to $2,000,000.

Energy Program: The bulk fuel and rural power system upgrade programs are reduced from $3,770,350 to $1,828,600. Renewable energy planning and community technical assistance on heating, power and transportation energy use is unchanged ($300,000). The emerging energy technology fund is reduced from $2,400,000 to $1,700,000.

Transportation Program: It is noted that the $14,025,000 shown in the FY 2011 Work Plan for FY 2011 Federal Highway Administration funding (FHWA) was not provided to the Commission, but was provided directly to the Alaska Department of Transportation.

Health Program: Reduced from $700,000 to $0.

Training Program: Reduced from $500,000 to $0.

Development Program: Reduced from $250,000 to $0.

Solid Waste Program: Reduced from $100,000 to $0.

Sponsorship Program: Reduced from $100,000 to $0.

The reductions noted above total $4,850,000 and were used to address the $15,000,000 rescission. Also, a total of $10,150,000 in prior year unobligated funding was used to address the $15,000,000 rescission.

Joel Neimeyer,
Federal Co-Chair.

[FR Doc. 2012-11943 Filed 5-16-12; 8:45 am]

BILLING CODE 3300-01-P